DEPARTMENT OF COMMERCE

International Trade Administration

A-570-848

Notice of Extension of the Final Results of New Shipper Antidumping Duty Reviews: Freshwater Crawfish Tail Meat from the People's Republic of China

AGENCY: Import Administration, International Trade Administration, Department of Commerce.

EFFECTIVE DATE: May 19, 2006.

FOR FURTHER INFORMATION CONTACT: Scot Fullerton or P. Lee Smith, AD/CVD Operations, Office 9, Import Administration, International Trade Administration, U.S. Department of Commerce, 14th Street and Constitution Avenue, NW, Washington, DC 20230; telephone: (202) 482-1386 and (202) 482-1655, respectively.

SUPPLEMENTARY INFORMATION:

Background

The Department received timely requests from Shanghai Sunbeauty Trading Co., Ltd., (“Shanghai Sunbeauty”), Jiangsu Jiushoutang Organisms-Manufactures Co., Ltd., (“Jiangsu JOM”), and Qingdao Wentai Trading Co., Ltd., (“Qingdao Wentai”) in accordance with 19 CFR 351.214(c) for new shipper reviews of the antidumping duty order on freshwater crawfish tail meat from the PRC. On April 29, 2005, the Department found that the requests for review with respect to Shanghai Sunbeauty, Jiangsu JOM, and Qingdao Wentai met all of the regulatory requirements set forth in 19 CFR 351.214(b) and initiated these new shipper antidumping duty reviews covering the period September 1, 2004, through February 28, 2005. See Freshwater Crawfish Tail Meat From the People's Republic of China: Initiation of Antidumping Duty New Shipper Reviews, 70 FR 23987 (May 6, 2005). On March 2, 2006, the Department published the preliminary results of these new shipper antidumping duty reviews. See Freshwater Crawfish Tail Meat From the People's Republic of China: Preliminary Notice of Intent to Rescind, 71 FR 10644 (March 2, 2006).

Extension of Time Limits for Final Results

Section 751(a)(2)(B)(iv) of the Tariff Act of 1930, as amended (the Act), and 19 CFR 351.214(i)(1) require the Department to issue the preliminary results of a new shipper review within 180 days after the date on which the new shipper review was initiated and final results of a review within 90 days after the date on which the preliminary results were issued. The Department may, however, extend the deadline for completion of the final results of a new shipper review to 150 days if it determines that the case is extraordinarily complicated (19 CFR 351.214 (i)(2)).

The Department has determined that the review is extraordinarily complicated as the Department must consider numerous arguments presented in the case briefs of the three respondents and petitioner's rebuttal brief including arguments regarding the respondents' sales prices, quantities, and issues relating to two respondents' U.S. affiliates. Based on the timing of the case, the final results of this new shipper review cannot be completed within the statutory time limit of 90 days. Accordingly, the Department is extending the time limit for the completion of the final results by 30 days from the original May 24, 2006, deadline, to June 23, 2006, in accordance with section 751(a)(2)(B)(iv) of the Act and 19 CFR 351.214(i)(2). This notice is published pursuant to sections 751(a)(2)(B)(iv) and 777(i)(1) of the Act.

Dated: May 15, 2006.
Stephen J. Claeys,
Deputy Assistant Secretary for Import Administration.

[FR Doc. E6-7688 Filed 5-18-06; 8:45 am]

Billing Code: 3510-DS-S